FEDERAL COMMUNICATIONS COMMISSION

Public Information Collections Approved by Office of Management and Budget

September 11, 2001.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Shoko B. Hair, Federal Communications Commission, (202) 418-1379.

Federal Communications Commission

OMB Control No.: 3060-0848.

Expiration Date: 02/28/2002.

Title: Deployment of Wireline Services Offering Advanced Telecommunications Capability, CC Docket 98-147.

Form No.: N/A .

Respondents: Business or other for-profit.

Estimated Annual Burden: 1750 respondents; 94.62 hour per response (avg.); 165,600 total annual burden hours.

Estimated Annual Reporting and Recordkeeping Cost Burden: $0.

Frequency of Response: On occasion; Third Party Disclosure.

Description: In Deployment of Wireline Services Offering Advanced Telecommunications Capability, Fourth Report and Order, CC Docket No. 98-147, FCC 01-204 (Order), the Commission takes steps to amend certain portions of the its collocation rules on remand from the United States Court of Appeals for the District of Columbia Circuit. The Order requires that an incumbent local exchange carrier provision cross-connects between collocating carriers upon reasonable request. The Order also requires that an incumbent LEC provide requesting carriers with an opportunity to request collocation space that meets their operational needs. In an effort to implement these requirements, the Commission adopted new and modified collections of information to promote the public interests in competition and innovation while protecting the incumbent LECs' property interests. (a) Certification of Interstate Traffic: In the Order, the Commission requires that an incumbent LEC provision cross-connects between collocated carriers upon reasonable request. A collocated carrier may request such provisioning pursuant to either section 201 or 251 of the Communications Act. An incumbent LEC, however, is not required to provide a connection between the equipment in the collocated spaces of two or more telecommunications if the connection is requested pursuant to section 201 of the Act, unless the requesting carrier submits to the incumbent LEC a certification that more than 10 percent of the amount of traffic to be transmitted through the connection will be interstate. The certification requirement recognizes that the Commission's jurisdiction under section 201 is subject to certain limits. (No. of respondents: 350; hours per response: 4 hours; total annual burden: 1400 hours). (b) Report of Available Collocation Space: The Commission previously had required that an incumbent LEC must submit to a requesting carrier within ten days of the submission of a request a report indicating the available collocation space in a particular incumbent LEC premises. In the Order, the Commission requires that this report describe in detail the space that is available for collocation in the particular premises. This description requirement should enable a carrier requesting collocation to request the space that best fits its operational needs. (No. of respondents: 1400; hours per response: 2 hours; total annual burden: 2800 hours). All other requirements under this control number remain in effect as approved. (Total annual burden for all collections: 165,600 hours). All of the collections are used to ensure that incumbent LECs and collocation carriers provide for collocation and obtain cross-connects in a manner consistent with sections 201 and 251 of the Communications Act of 1934, as amended. Obligation to respond: Mandatory.

OMB Control No.: 3060-0166.

Expiration Date: 08/31/2004.

Title: Part 42—Preservation of Records of Communications Common Carriers.

Form No.: N/A.

Respondents: Business or other for-profit.

Estimated Annual Burden: 52 respondents; 2 hours per response (avg.); 104 total annual burden hours (for all collections approved under this control number).

Estimated Annual Reporting and Recordkeeping Cost Burden: $0.

Frequency of Response: On occasion; Third Party Disclosure; Recordkeeping.

Description: Section 220 of the Communications Act of 1934, as amended, 47 USC Section 220, makes it unlawful for carriers to willfully destroy information retained for the Commission. Part 42 of the Commission's rules prescribes guidelines to ensure that carriers maintain the necessary records needed by the FCC for its regulatory obligations. Section 42.4 requires carriers to maintain at its operating company headquarters a master index of records which identifies the records retained, the related retention period, and the locations where the records are maintained. Carriers must explain, by adding a certified statement to the index, the premature loss or destruction of records pursuant to Section 42.4. Records maintained in a machine readable medium must be accompanied by a statement indicating the type of data included in the record and certifying that the information contained in it has been accurately duplicated pursuant to Section 42.5(b). Section 42.6 requires the retention of telephone toll records for 18 months providing the following billing information about telephone toll calls: The name, address, and telephone number of the caller, telephone number called, date, time and length of the call. Pursuant to Section 42.7 carriers are allowed to establish their own retention periods, except for in the case of telephone toll records and records relevant to complaint proceedings. Moreover, this section specifies requirements for complaint proceedings, and proceedings or inquiries directed by the FCC. (No. of respondents: 52; hours per response: 2 hours; total annual burden: 104 hours). Documentation of premature destruction is necessary so the Commission can be aware of the frequency and consequence of such destruction. If carriers were allowed to destroy records at will, the Commission could lose its historical base of information thus making it impossible to properly regulate the industry. A specific retention period for telephone toll records is imposed to assist Department of Justice in law enforcement. Obligation to respond: Mandatory.

OMB Control No.: 3060-0736.

Expiration Date: 08/31/2004.

Title: Implementation of the Non-Accounting Safeguards of Sections 271 and 272 of the Communications Act of 1934, as amended, CC Docket No. 96-149.

Form No.: N/A.

Respondents: Business or other for-profit.

Estimated Annual Burden: 4 respondents; 36 hours per response (avg.); 144 total annual burden hours (for all collections approved under this control number).

Estimated Annual Reporting and Recordkeeping Cost Burden: $0.

Frequency of Response: On occasion; Monthly; Third Party Disclosure.

Description: Section 272 of the Communications Act of 1934, as amended, requires that Bell Operating Companies (BOCs) make information available to third parties if it makes that information available to its section 272(a) affiliates. BOCs are required to provide, among other things, unaffiliated entities all listing information, including unlisted and unpublished numbers as well as the numbers of other LECs' customers, that the BOC uses to provide E911 services. BOCs are required to treat their E911 service as nonregulated activities for federal accounting purposes to the extent they involve storage and retrieval functions included within the statutory definition of information service. The BOCs shall record any charges they impute for their E911 services in their revenue accounts. The requirements will be used to ensure that BOCs comply with the nondiscrimination requirements under the Communications Act of 1934, as amended.

Obligation to Respond: Mandatory.

OMB Control No.: 3060-0856.

Expiration Date: 02/28/2002.

Title: Universal Service—Schools and Libraries Universal Service Program Reimbursement Forms.

Form No.: FCC Forms 472, 473, and 474.

Respondents: Not-for-profit institutions; Business or other for-profit.

Estimated Annual Burden: 61,800 respondents; 1.42 hours per response (avg.); 88,050 total annual burden hours (for all collections approved under this control number).

Estimated Annual Reporting and Recordkeeping Cost Burden: $0.

Frequency of Response: On occasion; Annually; Third Party Disclosure.

Description: The Telecommunications Act of 1996 contemplates that discounts on eligible services shall be provided to schools and libraries, and that service providers shall seek reimbursement for the amount of the discounts. FCC Forms 473 and 474 facilitate the reimbursement process. FCC Form 472 allows providers to confirm that they are actually providing the discounted services to eligible entities. Minor revisions were made to FCC Form 474. The current edition of the FCC Form 474 is May 2001. (No. of respondents: 2500; hours per response: 1.5 hours; total annual burden: 3750 hours). Copies of FCC Form 474 and other universal service forms are available via the Internet at www.universalservice.org.

Obligation to Respond: Required to obtain or retain benefits.

Public reporting burden for the collections of information are as noted above. Send comments regarding the burden estimates or any other aspect of the collections of information, including suggestions for reducing the burden to Performance Evaluation and Records Management, Washington, DC 20554.

Federal Communications Commission.
Magalie Roman Salas,
Secretary.

[FR Doc. 01-23266 Filed 9-18-01; 8:45 am]

BILLING CODE 6712-01-P